DEPARTMENT OF JUSTICE

[OMB Number 1121-0325]

Agency Information Collection Activities; Proposed eCollection eComments Requested; Extension of a Currently Approved Collection; Comments Requested Research To Support the National Crime Victimization Survey (NCVS)

Correction

In notice document 2015-19907, appearing on page 48567 in the issue of Thursday, August 13, 2015, make the following correction:

On page 48567, in the DATES section, on the third line of that paragraph, “November 12, 2015” should read “October 13, 2015”.

[FR Doc. C1-2015-19907 Filed 10-14-15; 8:45 am]

BILLING CODE 1505-01-D